DEPARTMENT OF JUSTICE

National Institute of Justice

[OJP(NIJ)-1288]

Notice of Availability of the Finding of No Significant Impact and the Environmental Assessment for NIJ's Crime Laboratory Improvement Program—DNA

AGENCY: Office of Justice Programs, National Institute of Justice (NIJ), Justice.

ACTION: Notice of availability of FONSI and EA.

SUMMARY: The Environmental Assessment, which is available to the public, concludes that the DNA improvement funding of the Crime Laboratory Improvement Program will not have a significant impact on the quality of the human environment.

FOR FURTHER INFORMATION CONTACT: For copies of the Environmental Assessment, please contact: A. Trent DePersia, NIJ Environmental Coordinator, National Institute of Justice, 810 7th Street, N.W., Room 7252, Washington, DC 20531; Phone:(202) 305-4686; E-mail: depersia@ojp.usdoj.gov. Copies of the Environmental Assessment are also available on NIJ's Website at www.ojp.usdoj.gov/nij/crimelabenviron.htm.

SUPPLEMENTARY INFORMATION:

Program Description

The National Institute of Justice (NIJ), 42 U.S.C. § 3722, as required by the Council on Environmental Quality's regulations, 40 CFR parts 1500 through 1508, has prepared an Environmental Assessment for the Crime Laboratory Improvement Program (CLIP)-DNA. The Purpose of CLIP is to provide equipment, supplies, and training to State and local crime laboratories to increase or expand their capabilities and capacities to perform various types of forensic analysis, such as biological evidence analysis (including DNA testing), trace evidence analysis, fingerprint comparison, toxicology, and firearm and tool mark analyses. This program responds to the criminal justice system's need for access to accurate and timely forensic laboratory services to develop investigative leads and solve crimes. This phase of CLIP funding (CLIP—DNA) will be directed specifically to DNA laboratory improvements.

Environmental Assessment

NIJ will award grants to State and local crime laboratories through a competitive solicitation process. NIJ expects to award approximately 30 CLIP grants per year, dependent upon appropriations. The Environmental Assessment concludes that the funding of this program will not have a significant impact on the quality of the human environment. Therefore, an Environmental Impact Statement will not be prepared for the funding of this program.

Dated: September 5, 2000.
Julie Samuels,
Acting Director, National Institute of Justice.

[FR Doc. 00-23164 Filed 9-8-00; 8:45 am]

BILLING CODE 4410-18-P